DEPARTMENT OF JUSTICE

Federal Bureau of Investigation

[Docket No. FBI 150]

FBI Records Management Division; National Name Check Program Section; New User Fees Schedule

AGENCY: Federal Bureau of Investigation (FBI), Justice.

ACTION: Notice.

SUMMARY: Pursuant to 28 CFR 20.31(e)(3), this notice establishes a new user fee schedule for Federal agencies requesting name-based background checks of the FBI's Central Records System through the National Name Check Program for noncriminal justice purposes. The total resource costs associated with providing these name check services have been calculated to ensure full reimbursement to the FBI.

DATES: This fee schedule is effective March 4, 2011.

FOR FURTHER INFORMATION CONTACT: FBI, RMD, National Name Check Program Section, 170 Marcel Drive, Winchester, Virginia 22602, Attention: Michael Cannon, (540) 868-4400.

SUPPLEMENTARY INFORMATION:

Pursuant to the authority in Public Law 101-515, as amended, the FBI has established user fees for Federal agencies requesting noncriminal name-based background checks of the Central Records System (CRS) through the National Name Check Program (NNCP) of the Records Management Division (RMD). The regulations governing the revision of these user fees are set out at 28 CFR 20.31(e and f). In accordance with 28 CFR 20.31(e), the FBI is required to periodically review the amount of the fees it collects for the NNCP to determine the current cost of processing name checks for noncriminal justice purposes and publish any resulting fee adjustments in the Federal Register.

Accordingly, the FBI conducted a fee study to assess the proper fee amounts that should be collected by the FBI.

In accordance with 28 CFR 20.31(e)(2), the fee study employed the same Activity Based Cost (ABC) accounting method detailed in the Final Rule establishing the process for setting fees (75 FR 24796 (May 6, 2010)). The ABC methodology is consistent with widely accepted accounting principles and complies with the provisions of 31 U.S.C. 9701 and other applicable Federal law. The fee study identified all direct and indirect costs associated with the name-based background checks incurred by the FBI in fiscal year 2009. These costs were analyzed by the ABC model to project the total reimbursable costs, by fee category, for fiscal year 2011.

The fee study recommended several adjustments to the current user fees, which have been in effect since October 1, 2007. Pursuant to the fee study, the fees imposed for electronic submissions will be increased, while the fees for manual and expedited submissions will be decreased. The following table details the fee amounts for Federal agencies requesting name-based background checks of the FBI's CRS through the NNCP for noncriminal justice purposes.

Service | Fee currently in effect | Change in fee amount | Revised fee
Electronic Submission:
Batch Process Only | $1.50 | $0.50 | $2.00
Batch + File Review | 29.50 | 9.00 | 38.50
Manual Submission | 56.00 | (5.25) | 50.75
Expedited Submission | 56.00 | (5.25) | 50.75

This new fee schedule will become effective on March 4, 2011.

Dated: January 25, 2011.
Robert S. Mueller, III,
Director, Federal Bureau of Investigation.

[FR Doc. 2011-2212 Filed 2-1-11; 8:45 am]

BILLING CODE 4410-02-P